DEPARTMENT OF ENERGY

Notice of Orders Issued Under Section 3 of the Natural Gas Act During August 2017

| FE docket Nos.
DOMINION ENERGY COVE POINT LNG, LP (formerly DOMINION COVE POINT LNG, LP) | 11-115-LNG; 11-128-LNG; 16-191-LNG; 16-205-LNG
WISCONSIN PUBLIC SERVICE CORPORATION | 17-100-NG
AVISTA CORPORATION | 17-85-LNG
PIONEER LNG LLC | 17-99-NG
RICE ENERGY MARKETING LLC | 17-102-NG
ENTERPRISE PRODUCTS OPERATING LLC | 17-103-NG
SOUTHERN CALIFORNIA GAS COMPANY | 17-90-NG
PUBLIC UTILITY DISTRICT NO. 1 OF CLARK COUNTY | 17-98-NG
UNIPER GLOBAL COMMODITIES NORTH AMERICA LLC | 15-180-NG
TIDAL ENERGY MARKETIN (U.S.) L.L.C. | 17-104-NG

AGENCY: Office of Fossil Energy, Department of Energy.

ACTION: Notice of orders.

SUMMARY: The Office of Fossil Energy (FE) of the Department of Energy gives notice that during August 2017, it issued orders under section 3 of the Natural Gas Act, 15 U.S.C. 717b, as summarized in the attached appendix. These orders may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on October 24, 2017.
John A. Anderson,
Director, Office of Regulation and International Engagement, Office of Oil and Natural Gas.

Appendix

DOE/FE Orders Granting Import/Export Authorizations
3019-A; 3331-C; 3971-A; 4046-A | 08/04/17 | 11-115-LNG; 11-128-LNG; 16-191-LNG; 16-205-LNG | Dominion Energy Cove Point LNG, LP (formerly Dominion Cove Point LNG, LP) | Orders 3019-A, 3331-C, 3971-A and 4046-A granting request to amend authorizations to export LNG to reflect Corporate Name Change.
4077 | 08/09/17 | 17-100-NG | Wisconsin Public Service Corporation | Order 4077 granting authority to import/export natural gas from/to Canada.
Errata 4066 | 08/04/17 | 17-85-NG | Avista Corporation | Errata DOE/FE Order 4066.
4079 | 08/14/17 | 17-99-LNG | Pioneer LNG LLC | Order 4079 granting blanket authority to import/export natural gas from/to Canada/Mexico.
4080 | 08/14/17 | 17-102-NG | Rice Energy Marketing LLC | Order 4080 granting blanket authority to import/export natural gas from/to Canada/Mexico.
4081 | 08/14/17 | 17-103-NG | Enterprise Products Operating LLC | Order 4081 granting blanket authority to import/export natural gas from/to Canada/Mexico.
4082 | 08/14/17 | 17-90-NG | Southern California Gas Company | Order 4082 granting blanket authority to import/export natural gas from/to Mexico.
4083 | 08/14/17 | 17-98-NG | Public Utility District No. 1 of Clark County | Order 4083 granting blanket authority to import/export natural gas from/to Canada.
3764-A | 08/31/17 | 15-180-NG | Uniper Global Commodities North America LLC | Order 3764-A vacating blanket authority to import/export natural gas from/to Canada.
4085 | 08/31/17 | 17-104-NG | Tidal Energy Marketing (U.S.) L.L.C. | Order 4085 granting blanket authority to import/export natural gas from/to Canada.

[FR Doc. 2017-23418 Filed 10-26-17; 8:45 am]

BILLING CODE 6450-01-P